NATIONAL ARCHIVES AND RECORDS ADMINISTRATION

[NARA-2025-021]

Agency Information Collection Activities: Proposed Collection; Comment Request

AGENCY: National Archives and Records Administration (NARA).

ACTION: Notice of proposed extension request.

SUMMARY: We are proposing to request an extension from the Office of Management and Budget (OMB) of two currently approved information collections. The first information collection is used by former Federal civilian employees or other authorized individuals to request information from or copies of documents in Official Personnel Files (OPF) or Employee Medical Files (EMF). The second information collection is used to connect veterans and Schedule A-eligible applicants with an opportunity for noncompetitive employment. Information will be collected from people who are interested in these opportunities to consider them for the positions and match them with possible jobs. The collection includes approval of a form, NARA Employment Interest Questionnaire, NA Form 3102. We invite you to comment on these information collections up for renewal.

DATES: We must receive written comments on or before June 9, 2025.

ADDRESSES: Send comments to Paperwork Reduction Act Comments (MP), Room 4100; National Archives and Records Administration; 8601 Adelphi Road; College Park, MD 20740-6001, or email them to kellie.shipley@nara.gov.

FOR FURTHER INFORMATION CONTACT: Kellie Shipley, Paperwork Reduction Act Officer, by email at kellie.shipley@nara.gov or by telephone at 301.837.0685 with requests for additional information or copies of the proposed information collection and supporting statement.

SUPPLEMENTARY INFORMATION: Pursuant to the Paperwork Reduction Act of 1995 (Pub. L. 104-13), we invite the public and other Federal agencies to comment on proposed information collections. If you have comments or suggestions, they should address one or more of the following points: (a) whether the proposed information collection is necessary for NARA to properly perform its functions; (b) our estimate of the burden of the proposed information collection and its accuracy; (c) ways we could enhance the quality, utility, and clarity of the information we collect; (d) ways we could minimize the burden on respondents of collecting the information, including through information technology; and (e) whether the collection affects small businesses.

We will summarize any comments you submit and include the summary in our request for OMB approval. All comments will become a matter of public record.

In this notice, we solicit comments concerning the following information collections:

1. Title: Requests for Civilian Service Records.

OMB number: 3095-0037.

Agency form number: NA Form 13022, Returned Request, NA Form 13068, Walk-In Request for OPM Records or Information.

Type of review: Regular.

Affected public: Individuals or households.

Estimated number of respondents: 10,429.

Estimated time per response: 5 minutes.

Frequency of response: On occasion.

Estimated total annual burden hours: 869 hours.

Abstract: In accordance with rules issued by the Office of Personnel Management, the National Personnel Records Center (NPRC) of the National Archives and Records Administration (NARA) administers Official Personnel Folders (OPF) and Employee Medical Folders (EMF) of former Federal civilian employees. When former Federal civilian employees and other authorized individuals request information from or copies of documents in OPF or EMF, they must provide in their requests certain information about the employee and the nature of the request so that we can determine whether they are authorized to receive the information and so that we can find the correct records. The NA Form 13022, Returned Request Form, is used to request additional information about the former Federal employee. The NA Form 13064, Reply to Request Involving Relief Agencies, is used to request additional information about the former relief agency employee. The NA Form 13068, Walk-In Request for OPM Records or Information, is used by members of the public, with proper authorization, to request a copy of a personnel or medical record.

2. Title: Schedule A and Veterans Recruitment Initiative.

OMB number: 3095-0075.

Agency form number: NA Form 3102, NARA Employment Interest Questionnaire.

Type of review: Regular.

Affected public: Individuals or households.

Estimated number of respondents: 300.

Estimated time per response: 5 minutes.

Frequency of response: On occasion.

Estimated total annual burden hours: 25 hours.

Abstract: This recruitment initiative connects people who are veterans or are Schedule A-eligible with non-competitive employment opportunities within our agency. The Special Program Placement Coordinator (SPPC) serves as a liaison between the applicant and NARA managers and supervisors to find viable employment opportunities for applicants.

SPPC has developed a Resume Repository (retained in a spreadsheet) to store resumes of qualified individuals who may meet our hiring needs. The Repository helps our agency find highly motivated veterans and Schedule A candidates who are eager to demonstrate their abilities in the workplace through excepted service positions, which could become permanent positions after trial period requirements have been met.

We collect the information for the Repository through an online form, NARA Employment Interest Questionnaire, NA Form 3102, which includes the following information for each individual: Applicant name, email address, phone number, types of positions applicant is interested in (may be multiple areas of interest), applicant's desired location(s), and minimum starting grade level applicant is willing to accept.

We enter the collected information from the questionnaire into the Repository spreadsheet, which managers and supervisors can use to sort and filter by position(s) of interest and/or duty location. We include resumes and cover letters as a link beside each candidate's entry so managers can view them and consider the candidate when looking for an employee. Managers have unlimited access to the Repository information and resumes to select qualified applicants to fill vacancies through a direct, non-competitive hire.

The Schedule A and veterans recruitment questionnaire link will be listed in our agency's information on the OPM website, in information provided by other agencies and organizations with similar programs, and on various pages of our agency's website at www.archives.gov (http://www.archives.gov).

Candidates must be U.S. citizens, eligible veterans, or be eligible under the Schedule A hiring authority.

Gulam Shakir,
Acting Executive for Information Services/CIO.

[FR Doc. 2025-06075 Filed 4-8-25; 8:45 am]

BILLING CODE 7515-01-P